FEDERAL HOUSING FINANCE BOARD

Sunshine Act Meeting Notice; Announcing an Open Meeting of the Board of Directors

Time and Date: The open meeting of the Board of Directors is scheduled to begin at 10 a.m. on Friday, December 22, 2006.

Place: Board Room, First Floor, Federal Housing Finance Board, 1625 Eye Street NW., Washington DC 20006.

Status: The meeting will be open to the public.

Matters to Be Considered at the Open Portion:

Limitations on Excess Stock and Retained Earnings Requirements for the Federal Home Loan Banks.

Appointment of Federal Home Loan Bank Directors.

Contact Person for More Information: Shelia Willis, Paralegal Specialist, Office of General Counsel, at 202-408-2876 or williss@fhfb.gov.

Dated: December 15, 2006.
By the Federal Housing Finance Board.
John P. Kennedy,
General Counsel.

[FR Doc. 06-9793 Filed 12-15-06; 5:15 pm]

BILLING CODE 6725-01-P